DEPARTMENT OF LABOR

Employment and Training Administration

[TA-W-81,576]

State Street Corporation, Putnam Cash Reconciliations Team, Including On-Site Leased Workers From APC Workforce Solutions II, LLC, D/B/A ZeroChaos, Quincy, MA; Amended Certification Regarding Eligibility To Apply for Worker Adjustment Assistance

In accordance with Section 223 of the Trade Act of 1974, as amended (“Act”), 19 U.S.C. § 2273, the Department of Labor (Department) issued a Certification of Eligibility To Apply for Worker Adjustment Assistance on June 16, 2012, applicable to workers and former workers of State Street Corporation, Putnam Cash Reconciliation Team, Quincy, Massachusetts. The workers were engaged in activities related to the supply of cash reconciliation services.

New information obtained by the Department revealed that workers leased from APC Workforce Solutions II, LLC, doing business as (D/B/A) ZeroChaos, were employed on-site at State Street Corporation, Putnam Cash Reconciliation Team, Quincy, Massachusetts. The Department has determined that these workers were sufficiently under the control of the subject firm to be considered leased workers.

Based on these findings, the Department is amending this certification to include on-site workers leased from APC Workforce Solutions II, LLC, D/B/A ZeroChaos, and has terminated the investigation of the petition that was filed on behalf of workers of APC Workforce Solutions II, LLC, D/B/A ZeroChaos, who worked on-site at State Street Corporation, Putnam Cash Reconciliation Team, Quincy, Massachusetts (TA-W-81,998).

The amended notice applicable to TA-W-81,576 is hereby issued as follows:

All workers of State Street Corporation, Putnam Cash Reconciliations Team, including on-site leased workers from APC Workforce Solutions II, LLC, D/B/A ZeroChaos, Quincy, Massachusetts, who became totally or partially separated from employment on or after April 26, 2011 through June 18, 2012, and all workers in the group threatened with total or partial separation from employment on June 18, 2012 through June 18, 2014, are eligible to apply for adjustment assistance under Chapter 2 of Title II of the Trade Act of 1974, as amended.

Signed in Washington, DC, this 24th day of October, 2012.
Del Min Amy Chen,
Certifying Officer, Office of Trade Adjustment Assistance.

[FR Doc. 2012-27414 Filed 11-8-12; 8:45 am]

BILLING CODE 4510-FN-P